Title 3—

The President

Proclamation 7627 of November 14, 2002

America Recycles Day, 2002

By the President of the United States of America

A Proclamation

Americans are dedicated to protecting our land, ensuring that our air is clean, and preserving the purity of our water. To help fulfill these responsibilities, government, businesses, community organizations, and every citizen must work together to serve as good stewards of all of our natural resources. On America Recycles Day, we renew our commitment to preserving our resources by recycling and using products made with recycled materials.

Recycling has become one of the most successful environmental initiatives in our Nation's history. In 1990, Americans recycled or composted 34 million tons of material. In the following decade, this number more than doubled to nearly 70 million tons. These efforts are helping to safeguard our environme by reducing the need for landfills and incinerators. Last year, the Federal Government contributed to these important goals by purchasing paper, retread tires, re-refined oil, concrete, insulation, and other products containing recycled materials.

Our Nation also continues to develop innovative ways to reduce, reuse, and recycle our waste. Although we have made significant progress, much work still remains. Americans generate more than 230 million tons of solid waste each year. Simple measures can help communities, businesses, and individuals decrease waste and extend the use of our natural resources. Individuals and families can participate in the recycling programs offered in their neighborhoods.

At home and in school, parents and teachers can educate children about the benefits of recycling and the importance of caring for our environment. By purchasing products made from recycled materials, American consumers provide economic incentives for businesses to collect, produce, and market more products that are recycled and recyclable. Our recycling and reuse industry provides approximately 1.4 million jobs, producing billions of dollars in annual revenues that contribute to the prosperity of our country. By recycling, we conserve our valuable resources, protect our air and water from harmful pollutants, and strengthen our economy.

On America Recycles Day, I encourage all Americans to rededicate themselves to using our resources more wisely by reusing and recycling the materials they purchase. Through these efforts, we help make our communities more livable, our businesses more competitive, and our Nation a healthier place for future generations to enjoy.

NOW, THEREFORE, I, GEORGE W. BUSH, President of the United States of America, by virtue of the authority vested in me by the Constitution and laws of the United States, do hereby proclaim November 15, 2002, as America Recycles Day. I call upon the people of the United States to observe this day with appropriate programs and activities.

IN WITNESS WHEREOF, I have hereunto set my hand this fourteenth day of November, in the year of our Lord two thousand two, and of the Independence of the United States of America the two hundred and twenty-seventh.

B

[FR Doc. 02-29514

Filed 11-18-02; 8:45 am]

Billing code 3195-01-P